DEPARTMENT OF COMMERCE

International Trade Administration

(A-570-836)

Glycine from the People's Republic of China: Extension of Time Limit for the Preliminary Results of Antidumping Duty Administrative Review

AGENCY: Import Administration, International Trade Administration, Department of Commerce.

EFFECTIVE DATE: December 2, 2008.

FOR FURTHER INFORMATION CONTACT: Dena Crossland or Angelica Mendoza, AD/CVD Operations, Office 7, Import Administration, International Trade Administration, U.S. Department of Commerce, 14th Street and Constitution Avenue, NW, Washington, DC 20230; telephone: (202) 482-3362 or (202) 482-3019, respectively.

SUPPLEMENTARY INFORMATION:

Background

On April 25, 2008, the Department of Commerce (“the Department”) published a notice of initiation of administrative review of the antidumping duty order on glycine from the People's Republic of China, covering the period March 1, 2007, through February 29, 2008. See Initiation of Antidumping and Countervailing Duty Administrative Reviews and Request for Revocation in Part, 73 FR 22337 (April 25, 2008). The preliminary results for this administrative review are currently due no later than December 1, 2008.

Statutory Time Limits

Section 751(a)(3)(A) of the Tariff Act of 1930, as amended (“the Act”), requires the Department to issue the preliminary results of an administrative review within 245 days after the last day of the anniversary month of an order for which a review is requested. If it is not practicable to complete the preliminary results within the time period, section 751(a)(3)(A) of the Act allows the Department to extend this deadline to a maximum of 365 days.

Extension of Time Limits for Preliminary Results

The deadline for the preliminary results of this administrative review is currently December 1, 2008. The Department determines that completion of the preliminary results within the statutory time period is not practicable. On September 29, 2008, the Department issued a second supplemental questionnaire to respondent Baoding Mantong Fine Chemistry Co., Ltd. (“Baoding Mantong”), regarding its responses to sections A, C and D of the Department's antidumping questionnaire. Baoding Mantong submitted its second supplemental questionnaire response on October 23, 2008. The Department requires additional time to review and analyze Baoding Mantong's supplemental questionnaire response and interested parties' November 5, 2008 and November 17, 2008, surrogate value submissions, and to issue additional supplemental sales and factors of production questionnaires to Baoding Mantong, if necessary.

Therefore, given the additional time needed to conduct a complete analysis for this administrative review, in accordance with section 751(a)(3)(A) of the Act, the Department is extending the time period for completion of the preliminary results to 365 days. Therefore, the preliminary results are now due no later than March 31, 2009. The final results continue to be due no later than 120 days after publication of the notice of the preliminary results.

This notice is published in accordance with sections 751(a)(3)(A) and 777(i)(1) of the Act.

Dated: November 24, 2008.
Gary Taverman,
Acting Deputy Assistant Secretary for Antidumping and Countervailing Duty Operations.

[FR Doc. E8-28587 Filed 12-1-04; 8:45 am]

BILLING CODE 3510-DS-S